DEPARTMENT OF HEALTH AND HUMAN SERVICES

Substance Abuse and Mental Health Services Administration

Sec. 223 Demonstration Programs To Improve Community Mental Health Services—Criteria for Certified Community Behavioral Health Clinics

AGENCY: Substance Abuse and Mental Health Services Administration, HHS.

ACTION: Notice of Public Listening Session.

SUMMARY: The Substance Abuse and Mental Health Services Administration (SAMHSA) announces that it will hold a public listening session on Wednesday, November 12, 2014, to solicit information concerning the Criteria for Certified Community Behavioral Health Clinics (CCBHC) to participate in Demonstration Programs. The scheduled listening session provides an opportunity for SAMHSA to seek public input on the criteria development process. The scope of this session will be on the development of the Criteria only. The session will be held in Rockville, MD, to obtain direct input from stakeholders on the development of criteria for state certification of Community Behavioral Health Clinics.

DATES: The listening session will be held on Wednesday, November 12, 2014, from 9:00 a.m. to 5:00 p.m. EST.

ADDRESSES: The listening session will be held at SAMHSA, 1 Choke Cherry Road, Rockville, MD 20857, Lobby-level Sugarloaf/Seneca Conference Rooms.

The agenda and logistical information on how to participate via the phone or Internet are on the SAMHSA Web site at: http://beta.samhsa.gov/about-us/who-we-are/laws-regulations/section-223.

The session will be open to the public and the entire day's proceedings will be webcast, recorded, and made publicly available. Interested parties may participate in person or via webcast and registration is required. In person seating is limited. To register, go to http://www.eventbrite.com/e/listening-session-sec-223-criteria-for-state-certified-behavioral-community-behavioral-health-tickets-13532338589?utm_campaign=new_eventv2&utm_medium=email&utm_source=eb_email&utm_term=eventurl_text. Registration will be open until November 5, 2014.. The listening session location is accessible to persons with disabilities. To request a reasonable accommodation, please send your request to: section223feedback@samhsa.hhs.gov.

Comments at the listening session will be limited to three minutes. In addition to providing oral comment at the session in person or via webcast, individuals and organizations may submit comments to SAMHSA using any of the following methods:

□ Mail: Substance Abuse and Mental Health Services Administration, 1 Choke Cherry Road, Rockville, MD 20857, Room 6-1019. Attn: Certified Behavioral Health Clinic Comments.

□ Hand Delivery or Courier: 1 Choke Cherry Road, Rockville, MD 20857, Room 6-1019 between 9 a.m. and 5 p.m., EST, Monday through Friday, except federal holidays.

□ Email: section223feedback@samhsa.hhs.gov.

□ Fax: 1-240-276-1930.

Each submission must include the agency name and the Federal Register docket number (FR Doc.) found at the end of this notice. Comments must be received by 5:00 p.m. EST on Wednesday, November 26, 2014.

FOR FURTHER INFORMATION CONTACT: For further information concerning the listening session or the live webcast, please contact Cynthia Kemp, Supervisory Public Health Advisor, SAMHSA, by mail at: 1 Choke Cherry Road, Rockville, MD 20857, Room 6-1019 or by email at: section223feedback@samhsa.hhs.gov.

SUPPLEMENTARY INFORMATION:

I. Background

On March 31, 2014, Congress passed the Protecting Access to Medicare Act (Pub. L. No. 113-93), which authorized Demonstration Programs to Improve Community Mental Health Services. Section 223 of Public Law 113-93 requires the Secretary to:

• Publish criteria for a clinic to be certified by a state as a certified community behavioral health clinic for purposes of participating in a demonstration program;

• issue guidance for the establishment of a prospective payment system that shall only apply to medical assistance for mental health services furnished by a certified community behavioral health clinic participating in a demonstration program;

• award planning grants to States for the purpose of developing proposals to participate in time-limited demonstration programs;

• select states to participate in demonstration programs that are developed through planning grants, meet specific requirements, and represent a diverse selection of geographic areas, including rural and underserved areas; and

• submit to Congress an annual report on the use of funds provided under all demonstration programs conducted.

Per Section 223, demonstration programs shall be developed to improve community mental health services. No later than September 1, 2015, the Secretary must publish the criteria for a clinic to be certified by a state as a certified community behavioral health clinic for purposes of participating in a demonstration program. The criteria published must include criteria with the following:

Staffing requirements, including criteria that the staff has diverse disciplinary backgrounds, have necessary state-required license and accreditation, and are culturally and linguistically trained to serve the needs of the clinic's patient population.

Availability and accessibility of services, including crisis management services that are available and accessible 24 hours a day, the use of a sliding scale for payment, and no rejection for services or limiting of services on the basis of a patient's ability to pay or a place of residence.

Care coordination, including requirements to coordinate care across settings and providers to ensure seamless transitions for patients across the full spectrum of health services including acute, chronic, and behavioral health needs. Care coordination requirements must include partnerships or formal contracts with the following:

• Federally-qualified health centers (and as applicable, rural health clinics) to provide federally-qualified health center services (and as applicable, rural health clinic services) to the extent such services are not provided directly through the certified community behavioral health clinic.

• Inpatient psychiatric facilities and substance use detoxification, post-detoxification step-down services, and residential programs.

• Other community or regional services, supports, and providers, including schools, child welfare agencies, juvenile and criminal justice agencies and facilities, Indian Health Service (IHS) youth regional treatment centers, state licensed and nationally accredited child placing agencies for therapeutic foster care service, and other social and human services.

• Department of Veterans Affairs medical centers, independent outpatient clinics, drop-in centers, and other facilities of the Department as defined in 38 U.S.C. § 1801.

• Inpatient acute care hospitals and hospital outpatient clinics.

Scope of Services—provision (in a manner reflecting person-centered care) of the following services which, if not available directly through the certified community behavioral health clinic, are provided or referred through formal relationships with other providers:

• Crisis mental health services, including 24-hour mobile crisis teams, emergency crisis intervention services, and crisis stabilization.

• Screening, assessment, and diagnosis, including risk assessment.

• Patient-centered treatment planning or similar processes, including risk assessment and crisis planning.

• Outpatient mental health and substance use services.

• Outpatient clinic primary care screening and monitoring of key health indicators and health risk.

• Targeted case management.

• Psychiatric rehabilitation services.

• Peer support and counselor services and family supports.

• Intensive, community-based mental health care for members of the armed forces and veterans, particularly those members and veterans located in rural areas, provided the care is consistent with minimum clinical mental health guidelines promulgated by the Veterans Health Administration including clinical guidelines contained in the Uniform Mental Health Services Handbook of such Administration.

Quality Reporting—Reporting of encounter data, clinical outcomes data, quality data, and such other data as the Secretary requires.

Organizational Authority—Criteria that a clinic be a non-profit or part of a local government behavioral health authority or operated under the authority of the IHS, an Indian tribe or tribal organization pursuant to a contract, grant, cooperative agreement, or compact with the IHS pursuant to the Indian Self-Determination Act (25 U.S.C. 450 et seq.), or an urban Indian organization pursuant to a grant or contract with the IHS under title V of the Indian Health Care Improvement Act (25 U.S.C. 1601 et seq.).

Once the Criteria for Criteria for CCBHCs are established, the planning grants will be awarded to states by January 1, 2016. By September 1, 2017 up to eight states will be selected from those states awarded planning grants to participate in a two year demonstration program to implement proposed approaches and assess their success. Finally, one year after the first state is selected and annually thereafter—reports will be submitted to Congress on the accessibility, quality, scope, and cost of services. A final report to Congress will be submitted by December 31, 2021, and will include recommendations to continue, expand, modify, or terminate the demonstration program.

Cathy J. Friedman,
Public Health Analyst, Substance Abuse and Mental Health Services Administration.

[FR Doc. 2014-25822 Filed 10-29-14; 8:45 am]

BILLING CODE 4162-20-P